FEDERAL COMMUNICATIONS COMMISSION

47 CFR Part 73

[DA 07-2854; MB Docket No. 07-125; RM-11375]

Radio Broadcasting Services; Oolitic, IN

AGENCY: Federal Communications Commission.

ACTION: Proposed rule.

SUMMARY: This document requests comments on a petition for rulemaking filed by Bruce Quinn, requesting the allotment of Channel 231A at Oolitic, Indiana. The coordinates for Channel 231A at Oolitic, Indiana, are 38-59-16 NL and 86-37-47 WL. There is a site restriction of 13.2 kilometers (8.2 miles) northwest of the community. Proposed Channel 231A is short-spaced to the licensed site of Station WQKC-FM, Channel 229B, Seymour, Indiana. However, Station WQKC-FM's license was modified to specify operation on Channel 230A at Sellersburg, Indiana in MB Docket No. 03-98 and the FM Table of Allotments was amended to reflect this change. Therefore, no protection is afforded to this license site. A Petition for Reconsideration of the letter dismissal of this Petition is dismissed as moot.

DATES: Comments must be filed on or before November 3, 2008, and reply comments on or before November 17, 2008.

ADDRESSES: Secretary, Federal Communications Commission, 445 Twelfth Street, SW., Washington, DC 20554. In addition to filing comments with the FCC, interested parties should serve the petitioner as follows: Bruce Quinn, 1217 Lafayette Avenue, Columbus, Indiana 47201.

FOR FURTHER INFORMATION CONTACT: Victoria M. McCauley, Media Bureau, (202) 418-2180.

SUPPLEMENTARY INFORMATION: This is a synopsis of the Commission's Notice of Proposed Rulemaking, MB Docket No. 07-125, adopted June 27, 2007, and released June 29, 2007. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20054, telephone 800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

§ 73.202 [Amended]

2. Section 73.202(b), the Table of FM Allotments under Indiana, is amended by adding Oolitic, Channel 231A.

Federal Communications Commission.
John A. Karousos,
Assistant Chief, Audio Division, Media Bureau.

[FR Doc. E8-23158 Filed 10-1-08; 8:45 am]

BILLING CODE 6712-01-P